ENVIRONMENTAL PROTECTION AGENCY

[FRL-6532-8]

Lakewood Battery Superfund Site Notice of Proposed Settlement

AGENCY: Environmental Protection Agency.

ACTION: Notice of settlement.

SUMMARY: In accordance with Section 122(i) of the Comprehensive Environmental Response, Compensation, and Liability Act, as amended (“CERCLA”), 42 U.S.C. 9622(i), notice is hereby given of a proposed administrative settlement for recovery of past response costs concerning the Lakewood Battery Site in Atlanta, Fulton County, Georgia with the following Settling Parties: the 162 Milton Avenue Trust and Doris V. Henderson. The settlement requires the Settling Parties to pay a total of $25,000 to the Hazardous Substance Superfund. The settlement includes a covenant not to sue the Settling Parties pursuant to 42 U.S.C. 9607(a). EPA will consider public comments on the proposed settlement for thirty days. EPA may withdraw from or modify the proposed settlement should such comments disclose facts or considerations which indicate the proposed settlement is inappropriate, improper, or inadequate. Copies of the proposed settlement are available from:Ms. Paula V. Batchelor,U.S. Environmental Protection Agency, Region IV,CERCLA Program Services Branch,Waste Management Division 61, Forsyth Street, S.W., Atlanta, Georgia 30303,404/562-8887.

Written comments may be submitted to Ms. Batchelor at the above address within 30 days of the date of publication.

Dated: January 20, 2000.
Franklin E. Hill,
Chief, CERCLA Program Services Branch, Waste Management Division.

[FR Doc. 00-2482 Filed 2-3-00; 8:45 am]

BILLING CODE 6560-50-U